DEPARTMENT OF HEALTH AND HUMAN SERVICES

Centers for Disease Control and Prevention

[30Day-09-09AF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluation of Pharmacy Syringe Access Linked to HIV Testing for Injection Drug Users in New York City (Pharm-HIV)—New—National Center for HIV/AIDS, Viral Hepatitis, STD, and TB Prevention (NCHHSTP), Centers for Disease Control and Prevention (CDC).

Background and Brief Description

HIV continues to be one of the leading causes of illness and death in the US, among injection drug users who are at high risk of acquiring HIV infection. HIV testing may not be readily accessible to this population in areas where they frequent. The New York State Legislature established an Expanded Syringe Access Demonstration Program (ESAP) in 2001 in New York City. ESAP makes sterile syringes available for injection drug users through participating pharmacies, in order to help reduce the burden of HIV. The regular contact between pharmacists and their injection-drug-using syringe customers through ESAP paves the way for pharmacies to act as access points to health and social services among IDU customers. The expansion of pharmacy services to include referrals for injection-drug-using syringe customers is based on the successes of ESAP, which provides many services beyond syringe exchange.

The New York Academy of Medicine (NYAM) has access to the ESAP list of pharmacies. NYAM will identify 12 ESAP pharmacies in East Harlem, New York City that are situated within predefined target neighborhoods where there are high levels of injection drug use. NYAM study staff will screen the ESAP pharmacies for eligibility by calling down a randomly-ordered list of ESAP-registered pharmacies and enrolling pharmacies willing to participate in this study. NYAM anticipates that they will have to contact 24 ESAP-registered pharmacies in the first year of the project (one pharmacy staff member at each pharmacy) in order to identify the 12 that will participate in the study. Recruitment of pharmacies will occur only during the first year.

At the 12 ESAP-registered pharmacies that join the study, over a three year period, 442 adult (age ≥18 yrs) injection-drug-using syringe customers will complete a brief quantitative interview after HIV referral or HIV testing is offered to them. HIV-seropositive injection-drug-using syringe customers who are identified during HIV testing will be immediately linked to social and medical services. Ten of the 12 ESAP Pharmacies will provide referrals to local HIV testing sites for their injection-drug-using syringe customers. At these ten pharmacies, 40 adult pharmacy staff will be surveyed on pharmacy staff attitudes and behaviors regarding HIV testing and referral.

The remaining two ESAP pharmacies will pilot test the feasibility of offering and performing HIV counseling and testing in the pharmacy for injection-drug-using syringe customers. At these two pharmacies, 8 adult (age ≥18 yrs) pharmacy staff members will be surveyed on pharmacy staff attitudes and behaviors regarding HIV testing and referral. At the 12 pharmacies, 12 pharmacy staff members (one from each pharmacy) will be surveyed monthly to track study progress and obstacles to completing the study. Twelve pharmacy staff members (one from each pharmacy) will complete a daily syringe sales and referral log.

There is no cost to the injection drug using customers who provide information to this study other than their time. The total estimated annual burden hours are 496 hours.

Estimate of Annualized Burden Table
Respondent | Form name | No. of respondents | No. of responses per respondent | Average burden per response (in hours)
Pharmacist | Pharmacy telephone screening and enrollment form | 8 | 1 | 10/60
Pharmacist and Pharmacy Technician | Pharmacy staff baseline survey | 48 | 1 | 20/60
Pharmacist and Pharmacy Technician | Pharmacy staff six monthly survey | 48 | 2 | 20/60
Pharmacist and Pharmacy Technician | Pharmacy staff exit survey | 48 | 1 | 20/60
Pharmacist | Pharmacy staff monthly survey | 12 | 10 | 10/60
Pharmacy Technician | Syringe sales and referral log | 12 | 300 | 5/60
Syringe-customer study participant | Pharmlink Participant Baseline Survey | 221 | 1 | 30/60

Dated: August 26, 2009.
Marilyn S. Radke,
Reports Clearance Officer, Centers for Disease Control and Prevention.

[FR Doc. E9-21037 Filed 8-31-09; 8:45 am]

BILLING CODE 4163-18-P